DEPARTMENT OF THE INTERIOR

Bureau of Land Management

[BLM_NM_FRN_MO4500177326]

Notice of Availability for the Organ Mountains-Desert Peaks National Monument Draft Environmental Impact Statement and Resource Management Plan

AGENCY: Bureau of Land Management, Interior.

ACTION: Notice of availability.

SUMMARY: In compliance with the National Environmental Policy Act of 1969, as amended (NEPA), and the Federal Land Policy and Management Act of 1976, as amended (FLPMA), the Bureau of Land Management (BLM) New Mexico State Director is announcing the availability of the Organ Mountains-Desert Peaks National Monument (Monument) Draft Environmental Impact Statement (EIS) and Resource Management Plan (RMP). This notice begins a 90-day public comment period to solicit public comments associated with the Monument RMP land use allocations and resource management goals and objectives, and the environmental analysis developed using best available science to identify potential impacts to objects of scientific and historic interest, as well as natural resources, resource values, and wildlife habitat located on the Monument.

DATES: The BLM is encouraging public involvement and input via comment submissions on the Monument Draft EIS/RMP. The BLM will accept comments through June 4, 2024.

To afford the BLM the opportunity to consider and respond to public comment submission for the Monument Draft EIS/RMP, please ensure your comments are submitted and received prior to the close of the 90-day comment period or 15 days after the last public meeting, whichever is later.

ADDRESSES: The public may submit comments on the Draft EIS/RMP to the BLM by any of the following methods: website: https://eplanning.blm.gov/eplanning-ui/project/92170/; email: blm_nm_lcdo_mail@blm.gov; or mail: BLM Las Cruces District Office, Attention: Monument Manager, 1800 Marquess Street, Las Cruces, NM 88005.

Documents and information relevant to the Monument planning effort may be examined online at https://eplanning.blm.gov/eplanning-ui/project/92170/510 or in-person at the BLM Las Cruces District Office address mentioned above.

FOR FURTHER INFORMATION CONTACT: Mr. Patrick Rich, RMP Team Lead; telephone: 405-579-7154; email: prich@blm.gov. Monument Manager, telephone: 575-525-4358; address: 1800 Marquess Street, Las Cruces, New Mexico 88005.

Contact Mr. Patrick Rich to add your name to our mailing list. Individuals in the United States who are deaf, deaf-blind, hard of hearing, or have a speech disability may dial 711 (TTY, TDD, or TeleBraille) to access telecommunications relay services for contacting Mr. Patrick Rich. Individuals outside the United States should use the relay services offered within their country to make international calls to the point-of-contact in the United States.

SUPPLEMENTARY INFORMATION: This document provides notice that the BLM New Mexico State Director has prepared a Draft EIS/RMP for the Organ Mountains-Desert Peaks National Monument, announces the beginning of the 90-day public comment period for the Monument Draft EIS/RMP, and seeks public input and comment on the Monument Draft RMP land use allocations and resource management goals and objectives identified in the four land use management alternatives, as well as the environmental analysis developed in the Draft EIS to identify potential effects associated with the four land use management alternatives developed for the Monument Draft RMP. The Monument planning area is in Doña Ana County, New Mexico, and encompasses approximately 496,591 acres of BLM-managed public land. The Monument's current management is directed by the existing 1993 Mimbres RMP, relevant amendments that apply to this planning area, and interim Monument guidance.

Presidential Proclamation 9131 established the Monument through identification of 496,591-acres of BLM-managed public lands in Doña Ana County, New Mexico, surrounding the City of Las Cruces; and directed the BLM to develop an RMP for the Monument. The Draft RMP provides four management alternatives with associated land use allocations and resource management goals and objectives for the protection and preservation of objects of scientific and historic interest, as well as the conservation of natural resources, resource values, and wildlife habitat located on the Monument.

Purpose and Need

The BLM's purpose for developing the Monument EIS/RMP is to respond to: (1) Presidential Proclamation 9131 (79 FR 30431), signed by President Barack Obama on May 21, 2014, establishing approximately 496,591-acres of Federal lands and interest in lands owned or controlled by the government of the United States as the Monument; and (2) the John D. Dingell, Jr. Conservation, Management, and Recreation Act (Dingell Act; Pub. L. 116-9), enacted on March 12, 2019, designating approximately 239,596-acres falling within the established boundaries of the Monument as wilderness and components of the National Wilderness Preservation System, in accordance with the Wilderness Act of 1964 (16 U.S.C. 1131 et seq.). The designated wilderness encompasses 10 BLM-managed public land areas within New Mexico: Aden Lava Flow Wilderness, Broad Canyon Wilderness, Cinder Cone Wilderness, East Potrillo Mountains Wilderness, Mount Riley Wilderness, Organ Mountains Wilderness, Potrillo Mountains Wilderness, Robledo Mountains Wilderness, Sierra De Las Uvas Wilderness, and Whitehorn Wilderness.

The need to develop the Monument EIS/RMP is found in FLPMA, which states the BLM shall “develop, maintain, and, when appropriate, revise land use plans” (43 U.S.C. 1712(a)); NEPA of 1969 (Pub. L. 91-190); and the BLM's planning regulations (43 CFR 1610.4-6). The BLM is preparing an EIS to identify and analyze reasonably foreseeable direct, indirect, and cumulative environmental impacts associated with the Monument RMP proposed land use allocations and the resource management goals and objectives.

Alternatives

The BLM developed and analyzed the potential effects of four distinct alternatives, demonstrating a reasonable range of alternatives. These were developed and analyzed by the BLM, as mandated by NEPA. Alternative A is the No Action alternative, which is required by Federal law and utilizes existing land use management allocations and resource management goals and objectives. The No Action alternative serves as a base point of reference from which the three action alternatives may be compared and measured for potential effects, both beneficial and adverse. Three action alternatives (Alternatives B, C, and D) were developed and analyzed for potential effects. Each alternative demonstrates a unique means of achieving the purpose and need through varying land use allocations and resource management goals and objectives. The following is a brief synopsis of the themes used to develop each alternative:

• Alternative A (No Action): Maintains the 1993 Mimbres RMP land use allocations and resource management goals and objectives. Incorporates Monument management direction and guidance from Presidential Proclamation 9131 and the 2019 Dingell Act.

• Alternative B (Protection-focused): Protects objects of scientific and historic interest. Protects, preserves, and enhances habitat, natural resources, and resource values while providing limited recreation and travel opportunities. Most proactive in promoting land use management activities focused on preservation, restoration, and enhancement.

• Alternative C (Agency Preferred Alternative): Preserves objects of scientific and historic interest within the Monument. Provides an objective approach to land use management, employing preservation and conservation principles for habitat management, natural resource management, and resource values. Alternative C employs targeted preservation goals and objectives, while allowing uses that promote sustained socioeconomic progression.

• Alternative D (Recreation and Use-focused): Preserves objects of scientific and historic interest within the Monument. Institutes foundational conservation management principles for the management of habitat, natural resources, and resource values, while simultaneously providing an enhanced visitor experience that emphasizes a more diverse array of recreational opportunities. Includes targeted preservation goals and objectives where appropriate and necessary.

The BLM New Mexico State Director has identified Alternative C as the agency preferred alternative. Alternative C was determined to be effective at protecting and preserving Monument objects while balancing resource uses and meeting the purpose and need. The preferred alternative includes important conservation and preservation measures that will protect Monument objects of scientific and historic interest, as well as other resources and resource values, including:

• Wilderness areas: Emphasizes preservation of wilderness character, with allowance for compatible uses;

• Areas of Critical Environmental Concern (ACEC): Designates two ACECs comprised of 38,085 acres within the Doña Ana Mountains (1,427 acres) and the Organ Mountains (36,658 acres);

• Special Recreation Management Area (SRMA): Designates SRMAs comprised of 45,871 acres within the Doña Ana Mountains (5,858 acres) and Organ Mountains (36,658 acres). Recreational focus on camping, equestrian, and pedestrian use;

• Soils: provides for protection and active management of soils, while limiting soil disturbing activities;

• Vegetative communities: provides for the protection, preservation, and restoration of reference vegetative communities;

• Wildlife: preserves and restores native habitat, while enhancing wildlife corridors and connectivity;

• Visual resources: preserves high value visual resources through protective management goals and objectives;

• Livestock grazing: establishes goals and objectives developed to ensure appropriate preservation and conservation of Monument objects, natural resources, and resource values, and defers to a subsequent site-specific evaluation of compatibility of grazing with the Presidential Proclamation and land health evaluations to make further adjustments to grazing management guidance and decisions;

• Travel management: establishes protective goals and objectives by limiting off-highway vehicles to designated roads and mechanized vehicles to designated roads and trails; and

• Lands and realty: provides resource preservation and conservation through establishment of right-of-way exclusion and avoidance areas across the Monument.

Public Involvement Process

The date(s) and location(s) of public meeting(s), in-person or virtual, will be announced at least 15 days in advance through local media, social media, and the ePlanning website (https://eplanning.blm.gov/eplanning-ui/project/92170/510).

The ePlanning website https://eplanning.blm.gov/eplanning-ui/project/92170/510 includes information about the Monument, a BLM planning process overview, issues identified for planning, and interim management guidance. The BLM encourages broad public involvement and the submission of substantive comments on: (1) the issues identified for analysis; (2) the land use allocations and resource management goals and objectives associated with the four alternatives; (3) other relevant information; and (4) the environmental analysis conducted in the Monument Draft EIS. However, the public may comment on any aspect of the Monument Draft EIS/RMP.

A substantive comment is one that is based on or uses a rational and/or science-based approach to critique the information, data, or methodology employed to develop the Monument Draft EIS/RMP; the construct of the alternative(s); or the methodology and projected effects derived from the environmental analysis and utilized to develop the Monument Draft EIS. All public comments received during the 90-day public comment period will be accepted, reviewed, and logged into the administrative record. However, substantive comments submitted to the BLM during the 90-day public comment period will be accepted, reviewed, responded to by the BLM, and potentially used for document amendment through incorporation of comment substance.

Responsible Official

The New Mexico State Director is the deciding official for the Monument EIS/RMP and the Record of Decision.

Decision To Be Made

The BLM New Mexico State Director will select from the four alternatives developed and analyzed in the Monument Draft EIS/RMP or a combination of those alternatives, and the specific land use allocations and resource management goals and objectives to be employed for the protection, preservation, restoration, enhancement, conservation, administration, and management of the objects of scientific and historic interest, natural resources, resource values, and wildlife habitat located on Monument lands.

BLM Interdisciplinary Team

The BLM used an interdisciplinary approach to develop the Monument Draft EIS/RMP through careful consideration of the issues and concerns identified. Specialists with expertise in the following disciplines were involved in the development and analysis of the Monument Draft EIS/RMP: botany/vegetation; lands and realty; renewable energy; fire ecology and management; wilderness characteristics; wildlife and special status species; public health and safety; geology and minerals; paleontology; air resources; climate change; water resources; recreation; transportation; visual resources; rangeland management; cultural resources; Tribal resources; soils; sociology; and economics.

Additional Information: The BLM interdisciplinary team identified, analyzed, and considered mitigation to address reasonably foreseeable impacts associated with land use allocations and resource management goals and objectives employed to develop the alternatives, in accordance with 40 CFR 1502.14(e). The BLM interdisciplinary team included appropriate mitigation measures in the proposed alternatives. Mitigation includes avoidance, minimization, rectification, reduction, or elimination over time, and compensation and was considered at multiple planning scales, including the landscape level.

The BLM interdisciplinary team proactively coordinated the NEPA and land use planning processes early in the planning effort to ensure compliance with applicable procedural requirements under the Endangered Species Act (16 U.S.C. 1536) and Section 106 of the National Historic Preservation Act (54 U.S.C. 306108), as provided in 36 CFR 800.2(d)(3), including public involvement requirements of Section 106. Information concerning historic and cultural resources and threatened and endangered species within the area potentially affected by the draft plan assisted the BLM interdisciplinary team in identifying and evaluating potential impacts to those resources.

The BLM engaged in consultation with thirteen federally recognized Tribes on a government-to-government basis in accordance with Executive Order 13175, BLM Manual section 1780, and other Departmental policies. Tribal concerns, including potential impacts to Indian trust assets and cultural resources, were given due consideration. Federal, State, and local agencies, along with Indian Tribal Nations and other stakeholders that demonstrated interest in or could have been impacted by the Monument RMP, were invited to participate in the scoping process and, if eligible, were invited to participate as a cooperating agency. The BLM intends to continue government-to-government consultation meetings and will continue to solicit input and develop opportunities for meaningful consultation with potentially affected Tribal Nations throughout the land use planning process.

Before including your address, phone number, email address, or other personal identifying information in your comment, you should be aware that your entire comment—including your personal identifying information—may be made publicly available at any time. While you can ask us in your comment to withhold your personal identifying information from public review, we cannot guarantee that we will be able to do so.

(Authority: 40 CFR 1501.9 and 43 CFR 1610.2)

Melanie G. Barnes,
BLM New Mexico State Director.

[FR Doc. 2024-07106 Filed 4-4-24; 8:45 am]

BILLING CODE 4331-23-P